DEPARTMENT OF HEALTH AND HUMAN SERVICES

Administration for Children and Families

Submission for OMB Review; Comment Request

Title: National Child Abuse and Neglect Data System.

OMB No. 0980-0229.

Description: The Children's Bureau of the Administration on Children, Youth and Families in the Administration for Children and Families of the U.S. Department of Health and Human Services collects national child abuse and neglect statistics through the National Child Abuse and Neglect Data System (NCANDS). NCANDS was established in response to the 1988 amendment (Pub. L. 100-294) to the Child Abuse Prevention and Treatment Act (CAPTA) (42 U.S.C. 5101 et seq.), which called for the creation of a coordinated national data collection and analysis program, both universal and case specific in scope, to examine standardized data on false, unfounded, or unsubstantiated reports.

The 1996 CAPTA amendment (42 U.S.C. 5106a(d)) required all States that receive Basic State Grant funds to provide specific data elements, to the extent practicable, to the Federal Government. These data items were incorporated into NCANDS. Since that time, other CAPTA revisions that pertain to child welfare have been included in NCANDS. This application is related to the most recent reauthorization of CAPTA during 2010 (Pub. L. 113-320).

The CAPTA provisions included in NCANDS state that each State to which a grant is made under this section shall annually work with the Secretary to provide, to the maximum extent practicable, a report that includes the following:

1. The number of children who were reported to the State during the year as victims of child abuse or neglect.

2. Of the number of children described in paragraph (1), the number with respect to whom such reports were—

A. Substantiated;

B. Unsubstantiated; or

C. Determined to be false.

3. Of the number of children described in paragraph (2)—

A. The number that did not receive services during the year under the State program funded under this section or an equivalent State program;

B. The number that received services during the year under the State program funded under this section or an equivalent State program; and

C. The number that were removed from their families during the year by disposition of the case.

4. The number of families that received preventive services, including use of differential response, from the State during the year.

5. The number of deaths in the State during the year resulting from child abuse or neglect.

6. Of the number of children described in paragraph (5), the number of such children who were in foster care.

7.

A. The number of child protective service personnel responsible for the—

i. Intake of reports filed in the previous year;

ii. Screening of such reports;

iii. Assessment of such reports; and

iv. Investigation of such reports.

B. The average caseload for the workers described in subparagraph (A).

8. The agency response time with respect to each such report with respect to initial investigation of reports of child abuse or neglect.

9. The response time with respect to the provision of services to families and children where an allegation of child abuse or neglect has been made.

10. For child protective service personnel responsible for intake, screening, assessment, and investigation of child abuse and neglect reports in the State—

A. Information on the education, qualifications, and training requirements established by the State for child protective service professionals, including for entry and advancement in the profession, including advancement to supervisory positions;

B. Data of the education, qualifications, and training of such personnel;

C. Demographic information of the child protective service personnel; and

D. Information on caseload or workload requirements for such personnel, including requirements for average number and maximum number of cases per child protective service worker and supervisor.

11. The number of children reunited with their families or receiving family preservation services that, within five years, result in subsequent substantiated reports of child abuse or neglect, including the death of the child.

12. The number of children for whom individuals were appointed by the court to represent the best interests of such children and the average number of out of court contacts between such individuals and children.

13. The annual report containing the summary of activities of the citizen review panels of the State required by subsection (c)(6).

14. The number of children under the care of the State child protection system who are transferred into the custody of the State juvenile justice system.

15. The number of children referred to a child protective services system under subsection (b)(2)(B)(ii).

16. The number of children determined to be eligible for referral, and the number of children referred, under subsection (b)(2)(B)(xxi), to agencies providing early intervention services under part C of the Individuals with Disabilities Education Act (20 U.S.C. 1431 et seq.).

The Children's Bureau proposes continue collecting NCANDS data using two files of the Detailed Case Data Component (DCDC): (1) Child File, the case-level component of NCANDS and (2) Agency File, the aggregate data component. The Children's Bureau is not proposing to continue collecting NCANDS data via the Summary Data Component (SDC), as States will no longer be using this file to submit data.

The Children's Bureau is seeking reapproval of these instruments with modifications. Modifications are being proposed to meet requirements of the amendments in the CAPTA Reauthorization Act of 2010 (Pub. L. 111-320) passed on December 20, 2010 and to clarify existing reporting. The Children's Bureau proposes to modify the Child File as follows:

• Field 147, Report Time: The Report Time field will collect the exact time (hour and minute) that a report was received by the hotline or other intake unit. CAPTA requires that each State submits the time from the report of abuse or neglect to the start of the initial child protective services (CPS) agency's response (42 U.S.C. 5106a(d)(8)). Currently, NCANDS only collects the date a report was received. Adding the time field will improve reporting for the Child and Family Services reviews and the GPRA Modernization Act of 2010 (Pub. L. 111-352).

• Field 148, Investigation Start Time: The Investigation Start Time field will collect the exact time (hour and minute) that the CPS agency's response was initiated. CAPTA requires that each Sate report the time from the report of abuse or neglect to the start of the CPS agency response (42 U.S.C. 5106a(d)(8)). Currently, NCANDS collects the CPS response start date. Adding the time field will enable a more accurate computation of the time between receipt of the report and the start of the CPS response. This addition will improve reporting for the Child and Family Services Reviews and GPRA.

• Field 149, Maltreatment Death Date: The Maltreatment Death Date field will collect the exact date (day, month, and year) that a child died due to child abuse or neglect. CAPTA requires that each State report the number of deaths in the State during the year resulting from child abuse or neglect (42 U.S.C. 5106a(d)(5)). Currently, NCANDS collects that the child was determined to have died due to maltreatment, but does not collect the date of death. Because determinations of the cause of death can take several months, adding the date of death will ensure a more accurate reporting of child fatality data.

• Field 150, Foster Care Discharge Date: The Foster Care Discharge Date field will collect the exact date (day, month, and year) that a child exits from foster care. This field will be completed for those children who were removed from their homes and have entries in the removal date and foster care services fields. Currently, NCANDS collects the exact date (day, month, and year) that a child entered foster care, but not the exact date (day, month, and year) when the child exited foster care. This addition will improve reporting for the Child and Family Services Reviews.

The reauthorization of CAPTA asks for the number of children who are eligible for referral and the number of children referred to Part C agencies (42 U.S.C. 5106a(d)(16)).The Children's Bureau proposes to modify the Agency File by adding two new fields to meet these requirements:

• Field 5.1, Number of Children Eligible for Referral to Agencies Providing Early Intervention Services Under Part C of the Individuals With Disabilities Education Act: This field will collect the number of children who were the subject of a CPS response, received a disposition, and were considered by the State to be eligible for referral to Part C agencies during the reporting period.

• Field 5.2, Number of Children Referred to Agencies Providing Early Intervention Services Under Part C of the Individuals With Disabilities Education Act: This field will collect the number of children who were considered eligible and actually were referred to Part C agencies during the reporting period.

The information collected by NCANDS will be used to better understand the experiences of children and families served by State and local child protective services agencies and to guide policy and program development at the national and local levels. Data collected through the NCANDS will also be used to support HHS with responding to the requirements of the Government Performance and Results Act (GPRA); reporting to Congress on States' performance on national child welfare outcomes; and monitoring States through the CFSRs.

Respondents: State governments, the District of Columbia, and the Commonwealth of Puerto Rico.

Annual Burden Estimates
Instrument | Number of respondents | Number of responses per respondent | Average burden hours per response | Total burden hours
Detailed Case Data Component Child File and Agency File | 52 | 1 | 112.3 | 5,841

Estimated Total Annual Burden Hours: 5,841.

Additional Information: Copies of the proposed collection may be obtained by writing the Administration for Children and Families, Office of Administration, Office of Information Services, 370 L'Enfant Promenade, SW., Washington, DC 20447, Attn: ACF Reports Clearance Officer. All requests should be identified by the title of the information collection. Email address: infocollection@acf.hhs.gov

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-6974, Attn: Desk Officer for the Administration for Children and Families.

Robert Sargis,
Reports Clearance Officer.

[FR Doc. 2012-17699 Filed 7-19-12; 8:45 am]

BILLING CODE 4184-01-P